DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 26 entities and 14 individuals whose property and interests in property have been blocked pursuant to the Foreign Narcotics Kingpin Designation Act (“Kingpin Act”) (21 U.S.C. 1901-1908, 8 U.S.C. 1182).

DATES: The designation by the Director of OFAC of the 26 entities and 14 individuals identified in this notice pursuant to section 805(b) of the Kingpin Act is effective on February 10, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 10, 2009, OFAC designated 26 entities and 14 individuals whose property and interests in property are blocked pursuant to section 805(b) of the Foreign Narcotics Kingpin Designation Act.

The list of additional designees is as follows:

Entities

1. EMPRESA EDITORA CONTINENTE PRESS S.A., Avenida Javier Prado, Oeste 640, Lima, Peru; RUC # 20381427391 (Peru); (ENTITY) [SDNTK]

2. SISTEMA DE DISTRIBUCION MUNDIAL, S.A.C. (a.k.a. WORLD DISTRIBUTION SYSTEM); Avenida Jose Pardo No. 601, Piso 11, Lima, Peru; RUC # 20458382779 (Peru); (ENTITY) [SDNTK]

3. AVIANDINA S.A.C., Avenida Jose Pardo 601, Lima, Peru; RUC # 20423916541 (Peru); (ENTITY) [SDNTK]

4. LASA PERU S.A.C., Jr. Emilio Althaus 748, Int. 3, Lima, Peru; RUC # 20509588091 (Peru); (ENTITY) [SDNTK]

5. AERO CONTINENTE E.I.R.L., Avenida Jose Pardo 601, Int. 16, Lima, Peru; RUC # 20510752695 (Peru); (ENTITY) [SDNTK]

6. VUELA PERU S.A.C., Avenida Bolognesi 125, Dpto. 1602, Lima, Peru; RUC # 20508991879 (Peru); (ENTITY) [SDNTK]

7. ASOCIACION CIVIL LOS PROMOTORES AERONAUTICOS, Jr. Los Robles 152, Oficina 7, San Martin de Porres, URB Valdiviezo, Lima, Peru; RUC # 20336637733 (Peru); (ENTITY) [SDNTK]

8. PERU GLOBAL TOURS S.A.C., Calle Soledad 113, Oficina 301, Lima, Peru; RUC # 20509567418 (Peru); (ENTITY) [SDNTK]

9. TRANSPORTES AEREOS UNIDOS SELVA AMAZONICA S.A. (a.k.a. TAUSA S.A.; f.k.a. TRANSPORTES AEREAS UCHIZA S.A.); Calle Soledad 111, Int. 302, Lima, Peru; RUC # 20110372320 (Peru); (ENTITY) [SDNTK]

10. TALLER DE REPARACIONES DE AERODINOS SUS PARTES Y SERVICIOS AEREOS S.A. (a.k.a. TRAPSA); Avenida Aviacion 650, Tarapoto, San Martin, Peru; RUC # 20104242244 (Peru); (ENTITY) [SDNTK]

11. CONTINENTE MOVIL Y SERVICIOS S.R.L., Urb. Residencial Santa Rosa, MZ G Lt. 20, Callao, Peru; RUC # 20383848483 (Peru); (ENTITY) [SDNTK]

12. CORPORACION DE INVERSIONES EMPRESARIALES S.A., Jr. Bolognesi 125, Oficina 1002, Lima, Peru; RUC # 20503541727 (Peru); (ENTITY) [SDNTK]

13. ORIENTE TOURS S.R.L., Jr. Soledad 113, Oficina 302, Lima, Peru; RUC # 20107539884 (Peru); (ENTITY) [SDNTK]

14. REPRESENTACIONES ORIENTE S.R.L., Urb. La Arboleda, Mz. F Int. 10, Trujillo, Peru; RUC # 20275164675 (Peru); (ENTITY) [SDNTK]

15. LUCERO IMPORT S.A.C., Calle Soledad 113, Interior 301, Lima, Peru; RUC # 20432287221 (Peru); (ENTITY) [SDNTK]

16. PERU TOTAL MARKET E.I.R.L., Jr. Washington 1214, Lima, Peru; RUC # 20512036661 (Peru); (ENTITY) [SDNTK]

17. ORIENTE CONTRATISTAS GENERALES S.A., Jr. San Martin 707, Int. 201, Trujillo, Peru; RUC # 20167975616 (Peru); (ENTITY) [SDNTK]

18. EDITORA TRANSPARENCIA S.A., Jr. Bolognesi 125, Dpto. 301, Lima, Peru; RUC # 20508146885 (Peru); (ENTITY) [SDNTK]

19. URANTIA SERVICES S.A., Avenida Jose Pardo 601, Lima, Peru; RUC # 20505575882 (Peru); (ENTITY) [SDNTK]

20. SERVICIOS SILSA S.A.C., Jr. Huantar 278, Lima, Peru; RUC # 20341067112 (Peru); (ENTITY) [SDNTK]

21. PERUVIAN PRECIOUS METALS S.A.C., Jr. Comunidad Industrial 293, Chorillos, Lima, Peru; RUC # 20502799445 (Peru); (ENTITY) [SDNTK]

22. EMPRESA DE TRANSPORTES CHULUCANAS 2000 S.A., Jr. Augusto Gonzales, Olaechea 1311, Urb. Elio, Lima, Peru; RUC # 20458820989 (Peru); (ENTITY) [SDNTK]

23. AERO COURIER CARGO S.A., Avenida Jose Pardo 601, Edificio La Alameda, Lima, Peru; RUC # 20507531823 (Peru); (ENTITY) [SDNTK]

24. LA CROSSE GROUP INC, Vanterpool Plaza, 2nd Floor, Wickhams Cay 1, Road Town, Tortola, Virgin Islands, British; Registration ID 268379 (Virgin Islands, British); (ENTITY) [SDNTK]

25. BLISSEY PANAMA INC., Avenida Central y Calle 4ta, Edificio Plaza Central, Oficina 32, Panama City, Panama; RUC # 2989391409828 (Panama); (ENTITY) [SDNTK]

26. BELLOSOM ENTERPRISE, INC., Avenida Central y Calle 4ta, Edificio Plaza Central, Oficina 32, Panama City, Panama; RUC # 2991141409851 (Panama); (ENTITY) [SDNTK]

Individuals

1. ZEVALLOS GONZALES, Lupe Maritza, c/o AERO CONTINENTE S.A., Lima, Peru; c/o EMPRESA EDITORA CONTINENTE PRESS S.A., Lima, Peru; c/o CORPORACION DE INVERSIONES EMPRESARIALES S.A., Lima, Peru; c/o REPRESENTACIONES ORIENTE S.R.L., Trujillo, Peru; c/o ORIENTE CONTRATISTAS GENERALES S.A., Trujillo, Peru; c/o URANTIA SERVICES S.A., Lima, Peru; c/o BLISSEY PANAMA INC., Panama City, Panama; c/o BELLOSOM ENTERPRISE, INC., Panama City, Panama; c/o LA CROSSE GROUP INC, Tortola, Virgin Islands, British; c/o AERO COURIER CARGO S.A., Lima, Peru; c/o TRANSPORTES AEREOS UNIDOS SELVA AMAZONICA S.A., Lima, Peru; Calle Nicolas de Rivera 610, Dpto. 702, Lima, Peru; DOB 17 Sep 1961; LE Number 07607833 (Peru); (INDIVIDUAL) [SDNTK]

2. ZEVALLOS GONZALES, Milagros Angelina, c/o AERO CONTINENTE S.A., Lima, Peru; c/o AVIANDINA S.A.C., Lima, Peru; Calle Jose Maria Sert 201, Lima, Peru; DOB 12 Aug 1968; LE Number 07617157 (Peru); (INDIVIDUAL) [SDNTK]

3. ZEVALLOS GONZALES, Winston Ricardo (a.k.a. ZEVALLOS GONZALES, Ricardo); c/o AERO CONTINENTE S.A., Lima, Peru; c/o AVIANDINA S.A.C., Lima, Peru; c/o CORPORACION DE INVERSIONES EMPRESARIALES S.A., Lima, Peru; c/o TALLER DE REPARACIONES DE AERODINOS SUS PARTES Y SERVICIOS AEREOS S.A., Tarapoto, San Martin, Peru; c/o TRANSPORTES AEREOS UNIDOS SELVA AMAZONICA S.A., Lima, Peru; Avenida Rio Grande 367, Lima, Peru; DOB 11 May 1959; SSN 592-29-5509; LE Number 07942932 (Peru); (INDIVIDUAL) [SDNTK]

4. ZEVALLOS GONZALES, Sara Marilyn, c/o EMPRESA EDITORA CONTINENTE PRESS S.A., Lima, Peru; c/o REPRESENTACIONES ORIENTE S.R.L., Trujillo, Peru; c/o ORIENTE TOURS S.R.L., Lima, Peru; c/o PERU TOTAL MARKET E.I.R.L., Lima, Peru; c/o ORIENTE CONTRATISTAS GENERALES S.A., Trujillo, Peru; c/o SERVICIOS SILSA S.A.C., Lima, Peru; c/o LA CROSSE GROUP INC, Tortola, Virgin Islands, British; c/o AERO COURIER CARGO S.A., Lima, Peru; c/o TRANSPORTES AEREOS UNIDOS SELVA AMAZONICA S.A., Lima, Peru; Calle Trinidad Moran 1316, Lima, Peru; DOB 01 Jan 1963; LE Number 07553224 (Peru); (INDIVIDUAL) [SDNTK]

5. GONZALES GARBANCHO DE ZEVALLOS, Sara Maria, c/o EMPRESA EDITORA CONTINENTE PRESS S.A., Lima, Peru; c/o PERU GLOBAL TOURS S.A.C., Lima, Peru; c/o ORIENTE TOURS S.R.L., Lima, Peru; c/o LUCERO IMPORT S.A.C., Lima, Peru; c/o EDITORA TRANSPARENCIA S.A., Lima, Peru; c/o SERVICIOS SILSA S.A.C., Lima, Peru; c/o PERUVIAN PRECIOUS METALS S.A.C., Lima, Peru; c/o TRANSPORTES AEREOS UNIDOS SELVA AMAZONICA S.A., Lima, Peru; Calle Trinidad Moran 1316, Lima, Peru; DOB 02 Aug 1936; LE Number 07553590 (Peru); (INDIVIDUAL) [SDNTK]

6. HERNANDEZ SAN MARTIN, Ricardo Arturo, c/o AVIANDINA S.A.C., Lima, Peru; c/o PERU GLOBAL TOURS S.A.C., Lima, Peru; Calle Huancavelica 270, URB Santa Patricia, Lima, Peru; DOB 04 Jul 1955; LE Number 10321329 (Peru); (INDIVIDUAL) [SDNTK]

7. MEJIA MAGNANI, John Yvan (a.k.a. MEJIA MAGNANI, Jhon; a.k.a. MEJIA MAGNANI, John Ivan); c/o AERO CONTINENTE S.A., Lima, Peru; c/o SISTEMA DE DISTRIBUCION MUNDIAL S.A.C., Lima, Peru; c/o CONTINENTE MOVIL Y SERVICIOS S.R.L., Callao, Peru; La Ladera MZ. J LT. 14, Las Vinas, Lima, Peru; DOB 20 Apr 1966; LE Number 07541863 (Peru); (INDIVIDUAL) [SDNTK]

8. DESME HURTADO, Maximo Zadi (a.k.a. DESME, Zadi); c/o AVIANDINA S.A.C., Lima, Peru; c/o SISTEMA DE DISTRIBUCION MUNDIAL S.A.C., Lima, Peru; Cerro Alto De La Posada 58, Los Andes, Chile; DOB 21 Aug 1958; LE Number 06367724 (Peru); (INDIVIDUAL) [SDNTK]

9. CANAVAL LANDAZURI, Enrique Antonio, c/o VUELA PERU S.A.C., Lima, Peru; c/o ASOCIACION CIVIL LOS PROMOTORES AERONAUTICOS, Lima, Peru; Avenida Pedro Venturo 687, URB Higuereta, Lima, Peru; DOB 06 Jan 1953; LE Number 07790775 (Peru); (INDIVIDUAL) [SDNTK]

10. PORTILLA BARRAZA, Jorge, c/o ORIENTE CONTRATISTAS GENERALES S.A., Trujillo, Peru; Pasaje Vincente Morales, Poblacion 11 de Septiembre, Arica, Chile; DOB 26 Feb 1948; D.N.I. 52249376 (Chile); (INDIVIDUAL) [SDNTK]

11. ZEVALLOS GONZALES DE ARREDONDO, Maria del Rosario, c/o AVIANDINA S.A.C., Lima, Peru; c/o PERUVIAN PRECIOUS METALS S.A.C., Lima, Peru; Aldabas MZ. 53, LT. 25, Las Gardenias, Lima, Peru; DOB 26 Jun 1956; LE Number 09138069 (Peru); (INDIVIDUAL) [SDNTK]

12. ARANIBAR CASTELLANOS, Percy Dangello, c/o LASA PERU S.A.C., Lima, Peru; c/o EMPRESA DE TRANSPORTES CHULUCANAS 2000 S.A., Lima, Peru; Jr. Augusto Gonzales Olaechea 1311, URB Elio, Lima, Peru; DOB 27 May 1971; LE Number 06778742 (Peru); (INDIVIDUAL) [SDNTK]

13. CARRILLO RODRIGUEZ, Luis Miguel, c/o VUELA PERU S.A.C., Lima, Peru; Orion 130, Ventanilla Naval, Callao, Peru; DOB 01 Dec 1961; LE Number 25693716 (Peru); (INDIVIDUAL) [SDNTK]

14. MEJIA REGALADO, Jose Manuel, Agrp. Block K Dpto 200, Lima, Peru; DOB 18 May 1948; LE Number 07609623 (Peru); (INDIVIDUAL) [SDNTK]

Dated: February 10, 2009.
Adam J. Szubin,
Director, Office of Foreign Assets Control.

[FR Doc. E9-3318 Filed 2-13-09; 8:45 am]

BILLING CODE 4811-45-P